DEPARTMENT OF ENERGY

Federal Energy Regulatory Commission

[Project No.: P-13637-001]

Great River Hydropower, LLC; Notice of Application Tendered for Filing With the Commission and Soliciting Additional Study Requests

July 23, 2010.

Take notice that the following hydroelectric application has been filed with the Commission and is available for public inspection.

a. Type of Application: Original Major License.

b. Project No.: P-13637-001.

c. Date filed: July 12, 2010.

d. Applicant: Great River Hydropower, LLC.

e. Name of Project: Upper Mississippi River Lock & Dam No. 21 Hydroelectric Project.

f. Location: The proposed project would be located on the Mississippi River in Marion County, Missouri and Adams County, Illinois near the City of Quincy, Illinois. The proposed project would occupy 5 acres of federal lands.

g. Filed Pursuant to: Federal Power Act 16 U.S.C. 791(a)-825(r).

h. Applicant Contact: Mr. Arie DeWaal, Mead & Hunt Inc., 6501 Watts Road, Madison, WI 53719; Telephone (608) 273-6380.

i. FERC Contact: Janet Hutzel, Telephone (202) 502-8675, or by e-mail at janet.hutzel@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: September 10, 2010.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

m. The application is not ready for environmental analysis at this time.

n. The proposed project would utilize the existing U.S. Army Corps of Engineers' Lock & Dam No. 21, and would consist of the following facilities: (1) A new hydropower structure, located about 100 feet downstream of the existing dam and having a total of 30 generating units with a total installed capacity of 15 megawatts; (2) a new 1.57-mile-long, 69-kilovolt transmission line; (3) an existing substation; (4) a new access road; and (5) appurtenant facilities. The average annual generation would be about 74,000 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

p. With this notice, we are initiating consultation with the Illinois and Missouri State Historic Preservation Officers (SHPO), as required by section 106 of the National Historic Preservation Act and the regulations of the Advisory Council on Historic Preservation, 36 CFR 800.4.

q. Procedural schedule: The application will be processed according to the following Hydro Licensing Schedule. Revisions to the schedule will be made as appropriate.

Issue Deficiency Letter (if necessary)—August 2010

Issue Acceptance Letter—October 2010

Issue Scoping Document 1 for comments—November 2010

Request Additional Information (if necessary)—January 2011

Issue Scoping Document 2—January 2011

Notice of Application Ready for Environmental Analysis—April 2011

Notice of Availability of Draft EA—October 2011

Notice of Availability of Final EA—January 2012

Kimberly D. Bose,
Secretary.

[FR Doc. 2010-18844 Filed 7-30-10; 8:45 am]

BILLING CODE 6717-01-P